DEPARTMENT OF DEFENSE

Office of the Secretary

Meeting of the DoD Healthcare Quality Initiative Review Panel

AGENCY: Department of Defense.

ACTION: This notice cancels the DoD Healthcare Quality Initiative Review Panel meeting, which was originally scheduled for April 27, 2000. A closed executive/administrative meeting has been scheduled for May 23, 2000, for Panel members and support staff only.

SUMMARY: This notice set forth the meeting of the DoD Healthcare Quality Initiatives Review Panel. Notice of meeting is required under The Federal Advisory Committee Act (Pub. L. 92-463).

DATES: May 23, 2000.

ADDRESSES: Sheraton Crystal City, 1800 Jefferson Davis Hwy, Arlington, VA 22202.

TIME: 8 a.m. to 5:30 p.m.

FOR FURTHER INFORMATION CONTACT: For information please contact Gia Edmonds at (703) 933-8325.

Dated: April 3, 2000.
L.M. Bynum,
Alternate OSD Federal Register Liaison Officer, Department of Defense.

[FR Doc. 00-8718 Filed 4-7-00; 8:45 am]

BILLING CODE 5000-10-M